BUREAU OF CONSUMER FINANCIAL PROTECTION

[Docket No: CFPB-2020-0006]

Privacy Act of 1974; System of Records

AGENCY: Bureau of Consumer Financial Protection.

ACTION: Notice of a modified Privacy Act System of Records.

SUMMARY: In accordance with the Privacy Act of 1974, as amended, the Bureau of Consumer Financial Protection, hereinto referred to as the Consumer Financial Protection Bureau (Bureau), gives notice of the modification of a Privacy Act System of Records. The information in the system will enable the Bureau to identify and conduct effective financial education programs and to collect, research, and publish certain information relevant to understanding and improving consumer financial decision-making and well-being. The Bureau is modifying the system of records in order to update descriptions of the system location; the system manager; and the policies and practices for retention and disposal of records.

DATES: Comments must be received no later than February 21, 2020. The modified system of records will be effective January 22, 2020, unless the comments received result in a contrary determination.

ADDRESSES: You may submit comments, identified by the title and the docket number (see above), by any of the following methods:

• Electronic: http://www.regulations.gov: Follow the instructions for soliciting comments.

• Email: privacy@cfpb.gov.

• Mail/Hand Delivery/Courier: Tannaz Haddadi, Acting Chief Privacy Officer, Bureau of Consumer Financial Protection, 1700 G Street NW, Washington, DC 20552.

All submissions must include the agency name and docket number for this notice. In general, all comments received will be posted without change to http://www.regulations.gov. In addition, comments will be available for public inspection and copying at 1700 G Street NW, Washington, DC 20552 on official business days between the hours of 10 a.m. and 5 p.m. Eastern Time. You can make an appointment to inspect comments by telephoning (202) 435-7058. All comments, including attachments and other supporting materials, will become part of the public record and subject to public disclosure. You should submit only information that you wish to make available publicly.

FOR FURTHER INFORMATION CONTACT: Tannaz Haddadi, Acting Chief Privacy Officer, at (202) 435-7058. If you require this document in an alternative electronic format, please contact CFPB_Accessibility@cfpb.gov. Please do not submit comments to these email boxes.

SUPPLEMENTARY INFORMATION: The Dodd-Frank Wall Street Reform and Consumer Protection Act, Public Law 111-203, title X, established the Bureau. The Bureau will maintain the records covered by this notice. The modified system of records described in this notice, “CFPB.021—Consumer Education and Engagement Records,” will collect information to enable the Bureau to identify and conduct effective financial education programs and also to collect, research, and publish certain information relevant to understanding and improving consumer financial decision-making and well-being. This modified system of records updates the description of the system location, the address of the system manager, the address whereby members of the public can notify the Bureau to request access to or amend records about themselves, and record access, contesting record and notification procedures. The updated sections reflect the Bureau's new address: Bureau of Consumer Financial Protection, 1700 G Street NW, Washington, DC 20552, and the updated records schedule. Records in this system will be destroyed in accordance with the related item number within the Consumer Education and Engagement Records schedule. In addition, the Bureau is making non-substantive revisions to the system of records notice to align with the Office of Management and Budget's recommended model in Circular A-108, appendix II.

The report of a modified system of records has been submitted to the Committee on Oversight and Reform of the House of Representatives, the Committee on Homeland Security and Governmental Affairs of the Senate, and the Office of Management and Budget, pursuant to OMB Circular A-108, “Federal Agency Responsibilities for Review, Reporting, and Publication under the Privacy Act” (December 23, 2016),¹ and the Privacy Act, 5 U.S.C. 552a(r).

¹ Although pursuant to section 1017(a)(4)(E) of the Consumer Financial Protection Act, Public Law 111-203, the Bureau is not required to comply with OMB-issued guidance, it voluntarily follows OMB privacy-related guidance as a best practice and to facilitate cooperation and collaboration with other agencies.

The system of records entitled “CFPB.021—Consumer Education and Engagement Records” is published in its entirety below.

SYSTEM NAME AND NUMBER:

CFPB.021—Consumer Education and Engagement Records.

SECURITY CLASSIFICATION:

This information system does not contain any classified information or data.

SYSTEM LOCATION:

Bureau of Consumer Financial Protection, 1700 G Street NW, Washington, DC 20552.

SYSTEM MANAGER(S):

Associate Director, Consumer Education and Engagement, Bureau of Consumer Financial Protection, 1700 G Street NW, Washington, DC 20552; (202) 257-9388.

AUTHORITY FOR MAINTENANCE OF THE SYSTEM:

Public Law 111-203, title X, sections 1013 and 1022, codified at 12 U.S.C. 5493 and 5512.

PURPOSE(S) OF THE SYSTEM:

The Act established functions within the Bureau (1) to develop and implement initiatives to educate and empower consumers to make better informed financial decisions; (2) to develop and implement a strategy to improve the financial literacy of consumers, including access to financial information, products and services; (3) to do research regarding, among other things, (a) consumer awareness, understanding, and use of disclosures and communications regarding consumer financial products or services, (b) consumer awareness and understanding of and decision-making relevant to costs, risks, and benefits of consumer financial products or services, (c) consumer behavior with respect to consumer financial products and services, (d) experiences of traditionally underserved consumers, including un-banked and under-banked consumers, and (e) best practices and effective methods, tools, technology and strategies to educate and counsel seniors about personal finance management. Consistent with these functions, the purpose of the system is to enable the Bureau to identify and conduct effective financial education programs and also to collect, research, and publish certain information relevant to understanding and improving consumer financial decision-making and well-being. Although this SORN describes the information to be collected across many Bureau projects, for each project the Bureau will collect only the information needed to accomplish the specific purpose of that project. The information will also be used for administrative purposes to ensure quality control, performance, and improving management processes.

CATEGORIES OF INDIVIDUALS COVERED BY THE SYSTEM:

Individuals covered by this system are those who: Participate in Bureau-sponsored or Bureau-funded financial education or financial capability programs, including financial education campaigns; utilize financial education web-tools or other financial education resources; or participate in surveys or other research conducted by the Bureau or by a third party, or by a third party on behalf of the Bureau.

CATEGORIES OF RECORDS IN THE SYSTEM:

Records in the system regarding the individuals described above may include: (1) Contact information (name, phone numbers, email address); (2) unique identifiers provided to government employees; (3) information related to the participant's financial status including bank account information, records of consumer financial transactions, and credit report data; (4) information on consumer characteristics collected in connection with financial education programs or the consumer's business relationship with a third party; (5) bank account information (for payment to survey participants); (6) other information collected from or about consumers in response to surveys or other research methods; (7) information relating to the effectiveness of financial education programs or resources or access to financial products or services; (8) Social Security number(s), when needed to pull credit reports or otherwise connect data points across data sources to understand consumer financial decision-making and well-being and the effectiveness of financial education or financial capability programs, resources, tools, or interventions; (9) biographic information (e.g. race, ethnicity, date of birth, marital status, education level, household composition information, citizenship status, disability information, veteran status) in order to understand the effectiveness of financial education or financial capability programs, resources, tools, or interventions, as it relates to specific populations; and (10) web analytics information that may be partially identifiable, including records of access to Bureau managed websites or resources including date(s) and time(s) of access, IP address of access, logs of internet activity related to use of the site or resource, the address that linked the user directly to the site or resource, in order to understand and enhance the effectiveness or usability of the site or resource.

RECORD SOURCE CATEGORIES:

Information in this system is obtained directly from the individual who is the subject of these records, and/or from third parties, including depository or non-depository institutions, credit reporting agencies, counseling agencies or other businesses or organizations or governmental entities involved in the markets for consumer financial products or services or that provide financial education services.

ROUTINE USES OF RECORDS MAINTAINED IN THE SYSTEM, INCLUDING CATEGORIES OF USERS AND THE PURPOSES OF SUCH USES:

These records may be disclosed, consistent with the Bureau Disclosure of Records and Information Rules, promulgated at 12 CFR 1070, to:

(1) Appropriate agencies, entities, and persons when (a) the Bureau suspects or has confirmed that there has been a breach of the system of records; (b) the Bureau has determined that as a result of the suspected or confirmed breach there is a risk of harm to individuals, the Bureau (including its information systems, programs, and operations), the Federal Government, or national security; and (c) the disclosure made to such agencies, entities, and persons is reasonably necessary to assist in connection with the Bureau's efforts to respond to the suspected or confirmed breach or to prevent, minimize, or remedy such harm;

(2) Another Federal agency or Federal entity, when the Bureau determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach.

(3) Another Federal or State agency to (a) permit a decision as to access, amendment or correction of records to be made in consultation with or by that agency, or (b) verify the identity of an individual or the accuracy of information submitted by an individual who has requested access to or amendment or correction of records;

(4) The Office of the President in response to an inquiry from that office made at the request of the subject of a record or a third party on that person's behalf;

(5) Congressional offices in response to an inquiry made at the request of the individual to whom the record pertains;

(6) Contractors, agents, or other authorized individuals performing work on a contract, service, cooperative agreement, job, or other activity on behalf of the Bureau or Federal Government and who have a need to access the information in the performance of their duties or activities;

(7) The U.S. Department of Justice (DOJ) for its use in providing legal advice to the Bureau or in representing the Bureau in a proceeding before a court, adjudicative body, or other administrative body, where the use of such information by the DOJ is deemed by the Bureau to be relevant and necessary to the advice or proceeding, and such proceeding names as a party in interest:

(a) The Bureau;

(b) Any employee of the Bureau in his or her official capacity;

(c) Any employee of the Bureau in his or her individual capacity where DOJ has agreed to represent the employee; or

(d) The United States, where the Bureau determines that litigation is likely to affect the Bureau or any of its components;

(8) A court, magistrate, or administrative tribunal in the course of an administrative proceeding or judicial proceeding, including disclosures to opposing counsel or witnesses (including expert witnesses) in the course of discovery or other pre- hearing exchanges of information, litigation, or settlement negotiations, where relevant or potentially relevant to a proceeding, or in connection with criminal law proceedings;

(9) A grand jury pursuant either to a Federal or State grand jury subpoena, or to a prosecution request that such record be released for the purpose of its introduction to a grand jury, where the subpoena or request has been specifically approved by a court. In those cases where the Federal Government is not a party to the proceeding, records may be disclosed if a subpoena has been signed by a judge;

(10) Appropriate Federal, State, local, foreign, tribal, or self-regulatory organizations or agencies responsible for investigating, prosecuting, enforcing, implementing, issuing, or carrying out a statute, rule, regulation, order, policy, or license if the information may be relevant to a potential violation of civil or criminal law, rule, regulation, order, policy or license; and

(11) Appropriate Federal, State, local, foreign, tribal or self-regulatory organizations or agencies or private entities that partner with the Bureau for research purposes.

POLICIES AND PRACTICES FOR STORAGE OF RECORDS:

Paper and electronic records.

POLICIES AND PRACTICES FOR RETRIEVAL OF RECORDS:

Records are retrievable by unique identifiers assigned to the records for purposes of longitudinal updating or for connecting data points across data sources, or by a variety of fields including, without limitation, the individual's name and contact information, identifying file number, or other information collected in response to surveys or other research.

POLICIES AND PRACTICES FOR RETENTION AND DISPOSAL OF RECORDS:

Per DAA-0587-2014-0006, the records in this system will be destroyed in accordance with the related item number within the Consumer Education and Engagement Records schedule.

ADMINISTRATIVE, TECHNICAL, AND PHYSICAL SAFEGUARDS:

Access to electronic records is restricted to authorized personnel who have been issued non-transferrable access codes and passwords. Other records are maintained in locked file cabinets or rooms with access limited to those personnel whose official duties require access.

RECORD ACCESS PROCEDURES:

An individual seeking access to any record pertaining to him or her contained in this system of records may inquire in writing in accordance with instructions in 12 CFR 1070.50 et seq. Address such requests to: Chief Privacy Officer, Bureau of Consumer Financial Protection, 1700 G Street NW, Washington, DC 20552. Instructions are also provided on the Bureau website: https://www.consumerfinance.gov/foia-requests/submit-request/.

CONTESTING RECORD PROCEDURES:

An individual seeking to contest the content of any record pertaining to him or her contained in this system of records may inquire in writing in accordance with instructions appearing in the Bureau's Disclosure of Records and Information Rules, promulgated at 12 CFR 1070.50 et seq. Address such requests to: Chief Privacy Officer, Bureau of Consumer Financial Protection, 1700 G Street NW, Washington, DC 20552.

NOTIFICATION PROCEDURES:

An individual seeking notification whether any record contained in this system of records pertains to him or her may inquire in writing in accordance with instructions appearing in the Bureau's Disclosure of Records and Information Rules, promulgated at 12 CFR 1070.50 et seq. Address such requests to: Chief Privacy Officer, Bureau of Consumer Financial Protection, 1700 G Street NW, Washington, DC 20552.

EXEMPTIONS PROMULGATED FOR THE SYSTEM:

None.

HISTORY:

77 FR 60382 (October 3, 2012); 79 FR 78839 (December 21, 2014); 83 FR 23435 (June 21, 2018).

Dated: November 27, 2019.
Kate Fulton,
Senior Agency Official for Privacy, Bureau of Consumer Financial Protection.

[FR Doc. 2020-00130 Filed 1-21-20; 8:45 am]

BILLING CODE 4810-AM-P